DEPARTMENT OF JUSTICE

Notice of Lodging of Consent Decree Under Comprehensive Environmental Response, Compensation and Liability Act

Notice is hereby given that on June 16, 2010, a proposed Consent Judgment in United States v. The Kasper (1977) Irrevocable Trusts, et al., No. CV-08-4780, was lodged with the United States District Court for the Eastern District of New York.

The proposed Consent Judgment resolves claims of the United States, on behalf of the Environmental Protection Agency (“EPA”), under the Comprehensive Environmental Response, Compensation, and Liability Act (“CERCLA”), 42 U.S.C. 9601 et seq., in connection with the American Drive-In Cleaners Superfund Site located in Levittown, New York in Nassau County, New York (“Site”), pursuant to Section 107(a) of the Comprehensive Environmental Response, Compensation, and Liability Act of 1980, as amended, 42 U.S.C. 9607, (“CERCLA”), against the Kasper (1977) Irrevocable Trusts for the Benefit of Charles B. Kasper and Richard J. Kasper; Sanderina R. Kasper, As Trustee of the Kasper (1977) Irrevocable Trusts for the Benefit of Charles B. Kasper and Richard J. Kasper (collectively, “Kasper Trust Defendants”); Martin Staller, and Parviz Nezami, (collectively referred to herein as “Settling Defendants”) and pursuant to Sections 104(e), 106(b), and 107(c)(3) of CERCLA, 42 U.S.C. 9604(e), 9606(b), and 107(c)(3), against the Kasper Trust Defendants. The Consent Judgment requires Settling Defendants to pay to the United States the total sum of $350,000 in payment for EPA's past response costs in connection with a removal action at the Site and accrued interest.

The proposed Consent Judgment provides that Settling Defendants are entitled to contribution protection as provided by Section 113(f)(2) of CERCLA, 42 U.S.C. 9613(f)(2) for matters addressed by the settlement.

The Department of Justice will receive for a period of 30 days from the date of this publication comments relating to the proposed Consent Judgment. Comments should be addressed to the Assistant Attorney General, Environment and Natural Resources Division, and either e-mailed to pubcomment-ees.enrd@usdoj.gov or mailed to P.O. Box 7611, U.S. Department of Justice, Washington, DC 20044-7611, and should refer to: United States v. The Kasper (1977) Irrevocable Trusts, et al., No. CV-08-4780 (E.D.N.Y.), D.J. Ref. 90-11-2-08284.

The proposed Consent Judgment may be examined at the Office of the United States Attorney, Eastern District of New York, 271 Cadman Plaza East, 7th Fl., Brooklyn, New York 11201, and at the United States Environmental Protection Agency, Region II, 290 Broadway, New York, New York 10007-1866. During the public comment period, the proposed Consent Judgment may also be examined on the following Department of Justice Web site, http://www.usdoj.gov/enrd/Consent_Decrees.html. A copy of the proposed Consent Judgment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.00 (25 cents per page reproduction cost), payable to the U.S. Treasury.

Maureen Katz,
Assistant Chief, Environmental Enforcement Section, Environment and Natural Resources Division.

[FR Doc. 2010-15003 Filed 6-21-10; 8:45 am]

BILLING CODE 4410-15-P